SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer at the following addresses:

(OMB), Office of Management and Budget, Attn: Desk Officer for SSA, NewExecutive Office Building, Room 10230, 72517th St., NW., Washington, DC 20503.

(SSA), Social Security Administration, DCFAM, Attn: SSA Reports Clearance Officer, 1-A-21 Operations Bldg., 6401 Security Blvd., Baltimore, MD 21235.

I. The information collection listed below will be submitted to OMB within 60 days from the date of this notice. Therefore, your comments should be submitted to SSA within 60 days from the date of this publication. You can obtain a copy of the collection instrument by calling the SSA Reports Clearance Officer at 410-965-0454, or by writing to her at the address listed above.

1. Disability Hearing Officer's Decision—Title XVI Disabled Child Continuing Disability Review—0960-NEW. The information collected on form SSA-1209 will be used by State Disability Hearing Officers (DHO) to formalize disability decisions. The form will aid the DHO in addressing the crucial elements of the case in a sequential and logical fashion. The form is used as the official determination of the DHO's decision and the personalized portion of the notice to the claimant.

Number of Respondents: 35,000.

Frequency of Response: 1.

Average Burden Per Response: 1 1/4 hours.

Estimated Annual Burden: 43,750 hours.

II. The information collections listed below have been submitted to OMB for clearance. Your comments on the information collections would be most useful if received by OMB and SSA within 30 days from the date of this publication. You can obtain a copy of the OMB clearance packages by calling the SSA Reports Clearance Officer on (410) 965-0454, or by writing to her at the address listed above.

1. Statement Regarding the Inferred Death of an Individual By Reason of Continued and Unexplained Absence-0960-0002. The information collected on Form SSA-723-F4 is needed to determine if SSA may presume that a missing wage earner is dead and, if so, to establish a date of presumed death. The respondents are people who have knowledge of the disappearance of the wage earner.

Number of Respondents: 3,000.

Frequency of Response: 1.

Average Burden Per Response: 30 minutes.

Estimated Annual Burden: 1,500 hours.

2. Credit Card Payment Acknowledgement Form—0960-NEW. SSA will use the information collected on Form SSA-1414 to process payments from former employees and vendors who have outstanding debts owed to the agency. This form has been developed as a convenient method for respondents to satisfy such debts. The respondents are former employees and vendors who have debts owed to the agency.

Number of Respondents: 150.

Frequency of Response: 1.

Average Burden Per Response: 5 minutes.

Estimated Annual Burden: 13 hours.

Please note: The SSA form number and the total number of respondents has been amended since the first FRN publication. This collection was previously published on December 31, 2001, as the SSA-324. The form number has been changed as a result of an internal SSA forms management review. The total number of respondents was adjusted after further evaluation of management information.

3. State Agency Ticket Assignment Form, SSA-1365, State Vocational Rehabilitation Ticket to Work Information Sheet, SSA-1366 and Individual Work Plans (IWP) Information Sheet, SSA-1367-0960-0641.

Background

Public Law (Pub. L.) 106-170, the Ticket to Work and Work Incentives Improvement Act of 1999, created a new Ticket to Work (TTW) program for providing work access services to Social Security disability beneficiaries. The new program requires SSA to monitor the services provided under the law. SSA has developed three data collection forms that request service provider and beneficiary information, which is essential to SSA's administration of this new program. Employment networks (ENs) providing TTW services under contracts with SSA are required to submit to SSA the information listed in form SSA-1367. State vocational rehabilitation agencies (VRAs) that provide services to our beneficiaries under either the traditional VR reimbursement mechanism or the new TTW program are required to submit to SSA the information listed in forms SSA-1365 and SSA-1366. SSA does not require that ENs or VRAs use forms SSA-1366 and SSA-1367 per se, but does require that any alternative forms submitted in place of these SSA forms include the SSA listed information at a minimum. VRAs are required to submit Form SSA-1365 in all cases as a means of assigning Tickets to VRAs.

a. State Agency Ticket Assignment Form—SSA-1365. The information collected on this form will be used by SSA's contracted Program Manager (PM) to perform the task of assigning beneficiaries' tickets and monitoring the use of tickets under the Ticket to Work and Self-Sufficiency Program. The State VRA answers the questions and the beneficiary reviews the data and if in agreement will sign the form acknowledging the Ticket assignment. The respondents are State VR agencies.

Number of Respondents: 21.

Frequency of Response: 4,048 annually per respondent.

Average Burden Per Response: 3 minutes.

Estimated Annual Burden: 4,250 hours.

b. State Vocational Rehabilitation Ticket to Work Information Sheet-SSA-1366. The information collected on Form SSA-1366 will be used by SSA's contracted PM when a State VRA elects to participate in the Program as an EN. In this case, form SSA-1366, when combined with the SSA-1365, is intended to meet the minimum information requirements for IWPs and to monitor the appropriateness of the IWPs as required under the Pub. L. 106-107. The respondents are VRAs acting as ENs under the Ticket to Work Program.

Number of Respondents: 21.

Frequency of Response: 132 annually per respondent.

Average Burden Per Response: 2 minutes.

Estimated Annual Burden: 92 hours.

Please Note: The Ticket to Work Program is being implemented in stages. The above represents the initial phase of the program with 13 participating states that include 21 State VR agencies. As the program continues to be phased in, each initial program year will result in a larger number of new tickets for the participating State VRs because existing clients will also be brought into the program.

c. Individual Work Plans (IWP) Information Sheet-SSA-1367. The information collected on Form SSA-1367 will be used to monitor the appropriateness of IWPs that have been assigned to ENs under the TTW program. The respondents are ENs under the TTW program.

Number of Respondents: 31,450.

Frequency of Response: 1 annually per respondent.

Average Burden Per Response: 3 minutes.

Estimated Annual Burden: 1,573 hours.

Dated: March 26, 2002.
Elizabeth A. Davidson,
Reports Clearance Officer, Social Security Administration.

[FR Doc. 02-7936 Filed 4-1-02; 8:45 am]

BILLING CODE 4191-02-P